DEPARTMENT OF COMMERCE

Foreign-Trade Zones Board

[S-261-2019]

Foreign-Trade Zone 2—New Orleans, Louisiana; Application for Subzone; Packard Pipe Terminals, LLC. Belle Chasse, Louisiana

An application has been submitted to the Foreign-Trade Zones Board (the Board) by the Board of Commissioners of the Port of New Orleans, grantee of FTZ 2, requesting subzone status for the facility of Packard Pipe Terminals, LLC, located in Belle Chasse, Louisiana. The application was submitted pursuant to the provisions of the Foreign-Trade Zones Act, as amended (19 U.S.C. 81a-81u), and the regulations of the Board (15 CFR part 400). It was formally docketed on December 19, 2019.

The proposed subzone (6 acres) is located at 806 Engineers Road, Belle Chasse (Plaquemines Parish), Louisiana. No authorization for production activity has been requested at this time. The proposed subzone would be subject to the existing activation limit of FTZ 2.

In accordance with the Board's regulations, Camille Evans of the FTZ Staff is designated examiner to review the application and make recommendations to the Executive Secretary.

Public comment is invited from interested parties. Submissions shall be addressed to the Board's Executive Secretary and sent to: ftz@trade.gov. The closing period for their receipt is February 10, 2020. Rebuttal comments in response to material submitted during the foregoing period may be submitted during the subsequent 15-day period to February 24, 2020.

A copy of the application will be available for public inspection in the “Reading Room” section of the Board's website, which is accessible via www.trade.gov/ftz.

For further information, contact Camille Evans at Camille.Evans@trade.gov or (202) 482-2350.

Dated: December 19, 2019.
Andrew McGilvray,
Executive Secretary.

[FR Doc. 2019-28036 Filed 12-27-19; 8:45 am]

BILLING CODE 3510-DS-P